Title 3—

The President

Proclamation 7632 of December 3, 2002

National Drunk and Drugged Driving Prevention Month, 2002

By the President of the United States of America

A Proclamation

Drunk and drugged driving threatens the safety of millions of Americans. Reducing the incidence of impaired driving remains one of our Nation's greatest challenges. As we gather with family and friends to celebrate this holiday season, I urge all Americans to observe National Drunk and Drugged Driving Prevention Month by making responsible choices that will help keep our roads safer for all.

Drunk driving accidents take a life every 30 minutes and injure someone every 2 minutes. In the last 24 months, 41 percent of those killed in traffic accidents, which is almost 35,000 Americans, have been killed in alcohol-related crashes. To better protect our citizens and decrease the number of drunk and drugged driving traffic accidents, we must work together to educate our communities about the seriousness of this offense and we must raise awareness of its devastating consequences.

My Administration supports efforts to save lives and prevent injuries resulting from impaired driving. The Department of Transportation's National Highway Traffic Safety Administration (NHTSA) works with local law enforcement agencies that conduct sobriety checkpoints and saturation patrols; and it also supports State efforts to pass legislation that increases punishment for those who drink and drive.

The NHTSA and its State and local partners are dedicated to eliminating impaired driving and stopping the associated injuries and fatalities. The NHTSA's national safety campaign—You Drink & Drive. You Lose.—aims to lower America's impaired driving fatality rate to less than 11,000 people per year by the year 2005. By providing its partner organizations with guidance on overcoming this national challenge, this important campaign is assisting local law enforcement agencies, community groups and organizations, public health professionals, and businesses to coordinate and address this vital issue.

As part of the You Drink & Drive. You Lose. campaign, law enforcement agencies across the Nation will be out in full force from December 20, 2002, to January 5, 2003, to stop drunk and drugged driving. During the holiday season, organizations and citizens throughout the country also will be working to prevent this deadly activity by encouraging citizens to choose sober, designated drivers, keep impaired family members and friends off our roads, report drivers who are under the influence, and educate young people about safe, alcohol- and drug-free driving behavior. Through cooperation and determination, every American can do something to make a difference and help stop impaired drivers before they harm others.

NOW, THEREFORE, I, GEORGE W. BUSH, President of the United States of America, by virtue of the authority vested in me by the Constitution and laws of the United States, do hereby proclaim December 2002 as National Drunk and Drugged Driving Prevention Month. I call upon State and community leaders to join the You Drink & Drive. You Lose. national mobilization between December 20, 2002, and January 5, 2003. I also urge all Americans to work to enhance the safety of our Nation's roadways and protect the well-being of our drivers, passengers, and pedestrians during this holiday season and every day of the year.

IN WITNESS WHEREOF, I have hereunto set my hand this third day of December, in the year of our Lord two thousand two, and of the Independence of the United States of America the two hundred and twenty-seventh.

B

[FR Doc. 02-31068

Filed 12-5-02; 8:45 am]

Billing code 3195-01-P